DEPARTMENT OF ENERGY

Federal Energy Regulatory Commission

Combined Notice of Filings #1

Take notice that the Commission received the following exempt wholesale generator filings:

Docket Numbers: EG15-117-000.

Applicants: Parrey, LLC.

Description: Notice of Self-Certification of Exempt Wholesale Generator Status of Parrey, LLC.

Filed Date: 8/18/15.

Accession Number: 20150818-5041.

Comments Due: 5 p.m. ET 9/8/15.

Take notice that the Commission received the following electric rate filings:

Docket Numbers: ER15-1740-001.

Applicants: Midcontinent Independent System Operator, Inc.

Description: Tariff Amendment: 2015-08-17-SA 1972 Deficiency Response GRE-OTP Sub 3rd Rev GIA (G645/G788) to be effective 7/18/2015.

Filed Date: 8/17/15.

Accession Number: 20150817-5223.

Comments Due: 5 p.m. ET 9/8/15.

Docket Numbers: ER15-1950-000.

Applicants: Southern Power Company.

Description: Response to July 24, 2015 letter requesting additional information of Georgia Power Company.

Filed Date: 8/17/15.

Accession Number: 20150817-5268.

Comments Due: 5 p.m. ET 9/8/15.

Docket Numbers: ER15-2463-000.

Applicants: MDU Resources Group, Inc.

Description: § 205(d) Rate Filing: Operation and Maintenance Agreement for Big Stone South to Ellendale to be effective 6/12/2015.

Filed Date: 8/17/15.

Accession Number: 20150817-5157.

Comments Due: 5 p.m. ET 9/8/15.

Docket Numbers: ER15-2464-000.

Applicants: Otter Tail Power Company.

Description: § 205(d) Rate Filing: Transmission Exchange Agreement with MDU to be effective 10/17/2015.

Filed Date: 8/17/15.

Accession Number: 20150817-5160.

Comments Due: 5 p.m. ET 9/8/15.

Docket Numbers: ER15-2465-000.

Applicants: Otter Tail Power Company.

Description: § 205(d) Rate Filing: Extension Facilities Agreement with MDU to be effective 10/17/2015.

Filed Date: 8/17/15.

Accession Number: 20150817-5163.

Comments Due: 5 p.m. ET 9/8/15.

Docket Numbers: ER15-2466-000.

Applicants: PJLB LLC.

Description: Baseline eTariff Filing: PJLB LLC, FERC Electric Tariff to be effective 10/1/2015.

Filed Date: 8/17/15.

Accession Number: 20150817-5168.

Comments Due: 5 p.m. ET 9/8/15.

Docket Numbers: ER15-2467-000.

Applicants: Southwestern Electric Power Company.

Description: § 205(d) Rate Filing: Cleco Robson Road Interconnection Agreement Cancellation to be effective 8/17/2015.

Filed Date: 8/17/15.

Accession Number: 20150817-5170.

Comments Due: 5 p.m. ET 9/8/15.

Docket Numbers: ER15-2468-000.

Applicants: Liberty Utilities (Granite State Electric) Corp.

Description: § 205(d) Rate Filing: Borderline Sales Rate Sheet Update to be effective 5/1/2015.

Filed Date: 8/17/15.

Accession Number: 20150817-5225.

Comments Due: 5 p.m. ET 9/8/15.

Docket Numbers: ER15-2469-000.

Applicants: R.E. Ginna Nuclear Power Plant, LLC.

Description: § 205(d) Rate Filing: 2015 normal Aug to be effective 8/17/2015.

Filed Date: 8/17/15.

Accession Number: 20150817-5226.

Comments Due: 5 p.m. ET 9/8/15.

Docket Numbers: ER15-2470-000.

Applicants: Longreach Energy, LLC.

Description: Baseline eTariff Filing: Longreach Energy LLC MBR Application to be effective 10/1/2015.

Filed Date: 8/18/15.

Accession Number: 20150818-5042.

Comments Due: 5 p.m. ET 9/8/15.

Docket Numbers: ER15-2471-000.

Applicants: PacifiCorp.

Description: PacifiCorp submits Average System Cost Filing for Sales of Electric Power to the Bonneville Power Administration, FY 2016-2017.

Filed Date: 8/17/15.

Accession Number: 20150817-5283.

Comments Due: 5 p.m. ET 9/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2015.
Nathaniel J. Davis, Sr.,
Deputy Secretary.

[FR Doc. 2015-20939 Filed 8-24-15; 8:45 am]

BILLING CODE 6717-01-P